DEPARTMENT OF TRANSPORTATION

National Highway Traffic Safety Administration

[Docket No. NHTSA 2001-8808, Notice 1]

Philips Lighting Company Receipt of Application for Decision of Inconsequential Noncompliance

Philips Lighting Company, Somerset, New Jersey, has determined that certain H3-55W replaceable light sources it manufactured do not have the “DOT” marking required under Federal Motor Vehicle Safety Standard (FMVSS) No. 108, “Lamps, Reflective Devices, and Associated Equipment.” The total number of light sources sold without this marking from January 1998 to December 1999 was 67,299.

This notice of receipt of an application is published under 49 U.S.C. 30118 and 30120 and does not represent any agency decision or other exercise of judgment concerning the merits of the application.

Under the requirements of S7.7(a) of FMVSS No. 108, each replaceable light source shall be marked with the symbol “DOT.”

Pursuant to 49 U.S.C. 30118(d) and 30120(h), Philips Lighting Company has petitioned for a determination that its failure to mark light sources with “DOT” is inconsequential to motor vehicle safety and has filed an appropriate report pursuant to 49 CFR Part 573, “Defect and Noncompliance Reports.”

Philips Lighting Company has indicated that the subject replaceable light source, with the exception of the absence of the “DOT” marking, fully complies with all the performance and design requirements of FMVSS No. 108 and does not constitute any risk to motor vehicle safety and has submitted test results to show this.

Interested persons are invited to submit written data, views, and arguments on the application described above. Comments should refer to the docket number and be submitted to: U.S. Department of Transportation, Docket Management, Room PL-401, 400 Seventh Street, SW, Washington, DC, 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: March 15, 2001.

(49 U.S.C. 301118, 301120; delegations of authority at 49 CFR 1.50 and 501.8)

Issued on: February 8, 2001.
Noble N. Bowie,
Acting Associate Administrator for Safety Performance Standards.

[FR Doc. 01-3630 Filed 2-12-01; 8:45 am]

BILLING CODE 4910-59-P